DEPARTMENT OF THE INTERIOR

Bureau of Land Management

[OR-027-1020-PI-020H; HAG-07-0143]

Notice of Call for Nominations for the Steens Mountain Advisory Council

AGENCY: Bureau of Land Management, Interior.

ACTION: Notice: Solicitation of applications.

SUMMARY: The Bureau of Land Management (BLM) is requesting public nominations to fill two unexpired terms on the Steens Mountain Advisory Council (SMAC). Nominations will be accepted for a person who is a recreational permit holder or is a representative of a commercial recreation operation in the Steens Mountain Cooperative Management and Protection Area (CMPA); and a person with expertise and interest in wild horse management on Steens Mountain.

DATES: Send all nominations to the address listed below no later than September 6, 2007.

ADDRESSES: Applicants can obtain nomination forms from Rhonda Karges, Environmental Protection Specialist, Burns District Office, 28910 Highway 20 West, Hines, Oregon 97738, (541) 573-4433, or Rhonda_Karges@blm.gov. Send all nomination materials to this address prior to the closing date listed above.

SUPPLEMENTARY INFORMATION: The SMAC advises the BLM on the management of the Steens Mountain CMPA as described in Public Law 106-399. Each member will be a person who, as a result of training and experience, has knowledge or special expertise that qualifies him or her to provide advice from the categories of interest identified above.

The SMAC members are normally appointed to 3-year terms. The wild horse management and the recreational permit holder positions are currently vacant; therefore, newly-appointed members will complete the unexpired portion of these terms. The wild horse management position expires in October 2008, and the recreational permit holder position expires in October 2009.

The SMAC members serve without monetary compensation, but are reimbursed for travel and per diem expenses at current rates for government employees. The SMAC meets only at the call of the Designated Federal Official, but not less than once per year.

The following must accompany all nominations: A completed background information nomination form; letters of reference from the constituency to be represented; and any other information that details the nominee's qualifications.

The letter of nomination should specify the category the nominee would like to represent. Nomination forms and letters of reference will be reviewed by the County Court of Harney County and the BLM. The BLM will then forward recommended nominations to the Secretary of the Interior, who has responsibility for making the appointments.

Dana R. Shuford,
Burns District Manager, Oregon/Washington BLM.

[FR Doc. E7-15360 Filed 8-6-07; 8:45 am]

BILLING CODE 4310-33-P